ARCHITECTURAL AND TRANSPORTATION BARRIERS COMPLIANCE BOARD

On Behalf of the Accessibility Committee of the Federal Chief Information Officers Council; Listening Session Regarding Improving the Accessibility of Government Information

AGENCY: Federal Chief Information Officers Council, Architectural and Transportation Barriers Compliance Board.

ACTION: Notice of meeting.

SUMMARY: This notice announces a listening session that the Federal Chief Information Officers Council will be conducting to hear from the public on ways the federal government can take stronger steps toward improving the acquisition and implementation of accessible technology for people with disabilities. In order to better understand the needs of diverse communities, the Federal Chief Information Officers Council, in collaboration with the Chief Acquisition Officers Council, the General Services Administration Office of Governmentwide Policy, and the U.S. Access Board, will hold a virtual listening session, where participants may either call in or log onto a Web site to participate and express concerns and propose ideas.

DATES: The listening session will be held on September 8, 2011 from 2 p.m. to 5 p.m. Eastern Time (E.T.).

ADDRESSES: The listening session will be held by telephone and online. Instructions on how to participate are at: http://www.access-board.gov/sec508/session-instructions.htm.

FOR FURTHER INFORMATION CONTACT: Tim Creagan, Office of Technical and Information Services, Architectural and Transportation Barriers Compliance Board, 1331 F Street, NW., Suite 1000, Washington, DC 20004-1111. Telephone (202) 272-0016 (voice) or (202) 272-0074 (TTY). e-mail address creagan@access-board.gov.

SUPPLEMENTARY INFORMATION: In 1998, Congress amended the Rehabilitation Act of 1973 to require Federal agencies to make their electronic and information technology accessible to people with disabilities. Inaccessible technology interferes with an ability to obtain and use information quickly and easily. Section 508 of the Rehabilitation Act (29 U.S.C. 794d) was created to eliminate barriers in information technology, open new opportunities for people with disabilities, and encourage development of technologies that will help achieve these goals. The law applies to all federal agencies when they develop, procure, maintain, or use electronic and information technology. Under Section 508, agencies must give employees with disabilities and members of the public with disabilities access to information that is comparable to access available to others without disabilities.

Effective implementation of Section 508 is an essential element of President Obama's principles of open government, requiring that all government and data be accessible to all citizens. In order for the goal of open government to be meaningful for persons with disabilities, technology must also be accessible, including digital content.

On July 19, 2010, the Office of Management and Budget (OMB) took steps to assure that the Federal government's progress in implementing Section 508 is stronger and achieves results more quickly by releasing a memorandum to agencies, titled “Improving the Accessibility of Government Information” (see http://www.whitehouse.gov/sites/default/files/omb/assets/procurement_memo/improving_accessibility_gov_info_07192010.pdf).

The OMB has directed that a series of listening sessions be held to gain feedback on ways to improve Section 508 performance. The Federal Chief Information Officers Council, in collaboration with the Chief Acquisition Officers Council, the General Services Administration Office of Governmentwide Policy, and the U.S. Access Board, have held four listening sessions to engage citizens and federal employees and hear their concerns and ideas. Transcripts from the previous listening sessions can be found on the Federal Chief Information Officers Council Accessibility Committee webpage (http://www.cio.gov/pages.cfm/page/Listening-Sessions). This final listening session will be a virtual session, where participants may either call in or log onto a website to participate. The listening session will focus on what steps the federal government can take to increase the accessibility and usability of government information and data for persons with disabilities. Input from private industry is sought on the following questions:

• What is private industry doing to implement information technology (IT) accessibility that the federal government should follow?

• How can implementation of Section 508 be improved?

• What could the federal government ask for that would allow vendors to better show that their products meet accessibility provisions?

• What support do newly emerging technology companies need to build in accessibility in their product and service offerings?

Input is also sought on the following questions:

• What can the federal government do to use technology better or in new ways?

• What can the federal government do to make technology more accessible?

• What emerging technologies does the federal government use that you cannot?

• What technologies should the federal government use that would enhance your interactions with government agencies?

• What are state and local governments doing to implement information technology accessibility that the federal government should follow?

• What is academia doing to implement IT accessibility that the federal government should follow?

• What can the federal government do to influence technology accessibility?

• What can the federal government do to support the availability of effective communities of practice on IT accessibility?

• Would the IT industry benefit from a professional certification or credential that denotes a company's expertise in accessibility? If so, how could it be implemented and what role should the government play?

Feedback from the listening session will be used by, and shared across agencies to improve accessibility and usability of electronic and information technology. The listening session will be accessible. Computer assisted real-time transcription (CART) will be provided. Persons wishing to participate in the virtual listening session can either call in and speak their comments over the telephone or go online and type them on the afternoon of the listening session. Callers should dial 1-877-939-0745 and then enter 51300082 # to join the session; callers must use a touch-tone telephone. Persons going online should go to the Access Board's Web site at http://www.access-board.gov/sec508/session-instructions.htm for instructions.

David M. Capozzi,
Executive Director.

[FR Doc. 2011-21144 Filed 8-17-11; 8:45 am]

BILLING CODE 8150-01-P